DEPARTMENT OF STATE

[Public Notice: 11678]

Notice of Shipping Coordinating Committee Meeting in Preparation for International Maritime Organization MSC 105 Meeting

The Department of State will conduct a public meeting of the Shipping Coordinating Committee at 10:00 a.m. on Wednesday, April 13, 2022, by way of teleconference. The primary purpose of the meeting is to prepare for the one-hundred fifth session of the International Maritime Organization's (IMO) Maritime Safety Committee (MSC 105) to be held virtually from Wednesday, April 20, 2022 to Friday April 22, 2022 and Monday, April 25, 2022 to Friday, April 29, 2022.

Members of the public may participate up to the capacity of the teleconference phone line, which can handle 500 participants. To RSVP, participants should contact the meeting coordinator, LCDR Jessica Anderson, by email at jessica.p.anderson@uscg.mil. To access the teleconference line, participants should call (202) 475-4000 and use Participant Code: 877 239 87#.

The agenda items to be considered at the advisory committee meeting mirror those to be considered at MSC 105, and include:

—Adoption of the agenda; report on credentials

—Decisions of other IMO bodies

—Consideration and adoption of amendments to mandatory instruments

—Measures to improve domestic ferry safety

—Development of further measures to enhance safety of ships relating to the use of fuel oil

—Goal-based new ship construction standards

—Development of a goal-based instrument for Maritime Autonomous Surface Ships (MASS)

—Measures to enhance maritime security

—Piracy and armed robbery against ships

—Unsafe mixed migration by sea

—Formal safety assessment

—Cost implications for MSI and SAR information providers concerning the recognition of multiple GMDSS mobile satellite services

—Implementation of IMO instruments (Report of the seventh session of the Sub-Committee)

—Carriage of cargoes and containers (Report of the seventh session of the Sub-Committee)

—Ship design and construction (Report of the eighth session of the Sub-Committee)

—Human element, training and watchkeeping (Urgent matters emanating from the eighth session of the Sub-Committee)

—Application of the Committee's method of work

—Work programme

—Any other business

—Consideration of the report of the Committee on its 105th session

Please note: The IMO may, on short notice, adjust the MSC 105 agenda to accommodate the constraints associated with the virtual meeting format. Any changes to the agenda will be reported to those who RSVP.

Those who plan to participate may contact the meeting coordinator, LCDR Jessica Anderson, by email at Jessica.P.Anderson@uscg.mil, or in writing at 2703 Martin Luther King Jr. Ave. SE, Stop 7509, Washington, DC 20593-7509. Members of the public needing reasonable accommodation should advise LCDR Jessica Anderson not later than April 6, 2022. Requests made after that date will be considered, but might not be possible to fulfill.

Additional information regarding this and other IMO public meetings may be found at: https://www.dco.uscg.mil/IMO.

(Authority: 22 U.S.C. 2656 and 5 U.S.C. 552)

Emily A. Rose,
Executive Secretary, Shipping Coordinating Committee, Office of Ocean and Polar Affairs, Department of State.

[FR Doc. 2022-05434 Filed 3-14-22; 8:45 am]

BILLING CODE 4710-09-P>